DEPARTMENT OF HOMELAND SECURITY

Transportation Security Administration

Reports, Forms, and Record Keeping Requirements: Agency Information Collection Activity Under OMB Review; Transportation Worker Identification Credential (TWIC) Prototype; Transportation Worker Survey; Lead Stakeholder Port Security Interviews

AGENCY: Transportation Security Administration (TSA), DHS.

ACTION: Notice.

SUMMARY: This notice announces that TSA has forwarded the Information Collection Request (ICR) abstracted below to the Office of Management and Budget (OMB) for review and clearance under the Paperwork Reduction Act. The ICR describes the nature of the information collection and its expected burden. TSA published a Federal Register notice, with a 60-day comment period soliciting comments, of the following collection of information on April 5, 2004, 69 FR 17704.

DATES: Send your comments by August 26, 2004. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Conrad Huygen, Office of Information Management Programs, TSA Headquarters, TSA-17, 601 South 12th Street, Arlington, VA 22202-4220; telephone (571) 227-1954; facsimile (571) 227-2906.

SUPPLEMENTARY INFORMATION:

Transportation Security Administration (TSA)

Title: Transportation Worker Identification Credential (TWIC) Prototype; Transportation Worker Survey; Lead Stakeholder Port Security Interviews.

Type of Request: New collection.

OMB Control Number: Not yet assigned.

Form(s): Transportation Worker Identification Credential (TWIC) Prototype Enrollment; Transportation Worker Survey.

Affected Public: Transportation Workers; Transportation Facility Security Stakeholders.

Abstract: TSA is in the process of evaluating the TWIC Program concept, which, if approved, will provide for a single, uniform credential nationwide for transportation workers who require access to secure transportation areas. In the Technology Evaluation phase, TSA evaluated five card technologies in various types of physical and logical access transactions. In the Prototype phase, the program intends to evaluate a broad range of business processes as they relate to credentialing, identity, and identity management. Specifically, TSA will evaluate certain technologies and business processes in the Prototype Phase of TSA's pilot project to fully development the program, measure credential performance and effectiveness, collect user feedback, and provide data analysis prior to proceeding to full-scale deployment. TSA will issue credentials to a select group of transportation workers and then administer two instruments to collect data on the effectiveness of the TWIC program as well as the satisfaction of the transportation workers who will be using these credentials.

Number of Respondents: 200,050.

Estimated Annual Burden Hours: 73,633.

Estimated Annual Cost Burden: $0.

TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

Issued in Arlington, Virginia, on July 20, 2004.
Susan T. Tracey,
Chief Administrative Officer.

[FR Doc. 04-17024 Filed 7-26-04; 8:45 am]

BILLING CODE 4910-62-P